DEPARTMENT OF JUSTICE

28 CFR PART 16

[AAG/A Order No. 212-2001]

Privacy Act of 1974; Implementation

AGENCY: Department of Justice.

ACTION: Final Rule.

SUMMARY: The Department of Justice is further exempting the United States Marshals Service (USMS) Internal Affairs System, JUSTICE/USM-002, from subsections (e)(1) and (e)(5) of the Privacy Act pursuant to 5 U.S.C. 552a(j)(2), (k)(2) and (k)(5). This system is currently exempt from subsections (c)(3) and (4), (d), (e)(2) and (3), (e)(4)(G) and (H), (e)(8), (f) and (g) pursuant to subsections (j)(2) and (k)(5). In addition to records compiled during the course of investigations of allegations of misconduct or criminal violations by USMS personnel, this system also contains records compiled for law enforcement investigations related to actual or potential civil and regulatory violations. The additional exemptions are necessary to avoid interference with such law enforcement investigations and to protect the privacy of third party individuals.

EFFECTIVE DATE: This rule will be effective January 22, 2001.

FOR FURTHER INFORMATION CONTACT: Mary E. Cahill on (202) 307-1823.

SUPPLEMENTARY INFORMATION: A proposed rule with invitation to comment was published in the Federal Register on November 8, 1999 (64 FR 60753). The public was given 30 days in which to comment. No public comments were received.

This order relates to individuals rather than small business entities. Nevertheless, pursuant to the requirements of the Regulatory Flexibility Act, 5 U.S.C. 601-612, it is hereby stated that the order will not have a “significant economic impact on a substantial number of small entities.”

List of Subjects in 28 CFR Part 16

Administrative Practice and Procedure, Courts, Freedom of Information Act, Government in the Sunshine Act, and Privacy.

Dated: January 8, 2001.
Stephen R. Colgate,
Assistant Attorney General for Administration.

Pursuant to the authority vested in the Attorney General by 5 U.S.C. 552a and delegated to me by Attorney General Order No. 793-78, 28 CFR Part 16 is amended as follows:

1. The authority for Part 16 continues to read as follows:

Authority: 5 U.S.C. 301, 552, 552a, 552b(g), 553; 18 U.S.C. 4203(a)(1); 28 U.S.C. 509, 510, 534; 31 U.S.C. 3717, 9701.

2. 28 CFR 16.101 is amended by revising paragraphs (e), introductory text, (e)(1), (f)(1), and (f)(3); by redesignating paragraphs (f)(7), (f)(8) and (f)(9) as paragraphs (f)(8), (f)(9) and (f)(10) and adding new paragraph (f)(7) as follows:

§ 16.101 Exemption of U.S. Marshals Service (USMS) Systems—limited access, as indicated.

* * * * *

(e) The following system of records is exempt from 5 U.S.C. 552a(c)(3) and (4), (d), (e)(1), (2) and (3), (e)(4)(G) and (H), (e)(5), (e)(8), (f) and (g).

(1) Internal Affairs System (JUSTICE/USM-002)—Limited access. These exemptions apply only to the extent that information in this system is subject to exemption pursuant to 5 U.S.C. 552a(j)(2), (k)(2) or (k)(5). Where compliance would not interfere with or adversely affect the law enforcement process, the USMS may waive the exemptions, either partially or totally.

(f) * * *

(1) From subsections (c)(3) and (d) to the extent that release of the disclosure accounting may impede or interfere with civil or criminal law enforcement efforts, reveal a source who furnished information to the Government in confidence, and/or result in an unwarranted invasion of the personal privacy of collateral record subjects or other third party individuals.

* * * * *

(3) From subsection (e)(1) to the extent that it is necessary to retain all information in order not to impede, compromise, or interfere with civil or criminal law enforcement efforts, e.g., where the significance of the information may not be readily determined and/or where such information may provide leads or assistance to Federal and other law agencies in discharging their law enforcement responsibilities.

(4) * * *

(5) * * *

(6) * * *

(7) From subsection (e)(5) because in the collection of information for law enforcement purposes it is impossible to determine in advance what information is accurate, relevant, timely and complete. With the passage of time, seemingly irrelevant or untimely information may acquire new significance and the accuracy of such information can only be determined in a court of law. The restrictions imposed by subsection (e)(5) would restrict the ability to collect information for law enforcement purposes and interfere with the preparation of a complete investigative report or otherwise impede effective law enforcement.

* * * * *

[FR Doc. 01-1737 Filed 1-19-01; 8:45 am]

BILLING CODE 4410-04-M